ENVIRONMENTAL PROTECTION AGENCY

[FRL-9213-4]

Agency Information Collection Activities; Proposed Collection; Comment Request for Alternative Affirmative Defense Requirements for Ultra-Low Sulfur Diesel Fuel; EPA ICR No. 2364.03

AGENCY: Environmental Protection Agency (EPA).

ACTION: Notice.

SUMMARY: In compliance with the Paperwork Reduction Act (PRA) (44 U.S.C. 3501 et seq.), this document announces that EPA is planning to submit a request to renew an Information Collection Request (ICR) to the Office of Management and Budget (OMB). This ICR affects diesel refiners, importers, and distributors.

DATES: Comments must be submitted on or before December 13, 2010.

ADDRESSES: Submit your comments, identified by Docket ID No. EPA-HQ-OAR-2007-1158 by one of the following methods:

• http://www.regulations.gov: Follow the on-line instructions for submitting comments.

• E-mail: a-and-r-Docket@epa.gov.

• Mail: Air Docket, Environmental Protection Agency, Mail Code: 6102T, 1200 Pennsylvania Ave., NW., Washington, DC 20460.

• Fax or Hand Delivery: EPA's Public Reading Room is located in Room 3334 of the EPA West Building, 1301 Constitution Ave., NW., Washington, DC. Docket hours are Monday through Friday, 8 a.m. until 4:30 p.m., excluding legal holidays. In order to ensure to arrange for proper fax or hand delivery of materials, please call the Air Docket at 202-566-1742.

Instructions: Direct your comments to Docket ID No. EPA-HQ-OAR-2007-1158. EPA's policy is that all comments received will be included in the public docket without change and may be made available online at http://www.regulations.gov, including any personal information provided, unless the comment includes information claimed to be Confidential Business Information (CBI) or other information for which disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Anne-Marie Pastorkovich, Office of Transportation and Air Quality, Transportation and Regional Programs Division, Mail Code 6406J, Environmental Protection Agency, 1200 Pennsylvania Ave., NW., Washington, DC 20460; telephone number: (202) 343-9623; fax number: (202) 343-2801; e-mail address: pastorkovich.anne-marie@epa.gov.

SUPPLEMENTARY INFORMATION:

How can I access the docket and/or submit comments?

EPA has established a public docket for this ICR under Docket ID No. EPA-HQ-OAR-2007-1158. The docket is available for online viewing at http://www.regulations.gov, and for in-person viewing at EPA's Public Reading Room. The Public Reading Room is located in the EPA West Building, 1301 Constitution Ave., NW., Room 3334, Washington, DC. The Public Reading Room is open from 8:30 a.m. to 4:30 p.m. Eastern Standard Time (EST) in its new location, Monday through Friday, excluding legal holidays. The telephone number for the Air Docket is 202-566-1742. Use http://www.regulations.gov to obtain a copy of the draft collection of information, submit or view public comments, access the index listing of the contents of the docket, and to access those documents in the public docket that are available electronically. Once in the system, select “search,” then key in the docket ID number identified in this document.

What information is EPA particularly interested in?

Pursuant to section 3506(c) (2) (A) of the Paperwork Reduction Act, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What information collection activity or ICR does this apply to?

Affected entities: Entities potentially affected by this action are diesel refiners, importers, and distributors.

Title: Alternative Affirmative Defense Requirements for Ultra-Low Sulfur Diesel Fuel.

ICR numbers: OMB Control Number 2060-0639; EPA ICR No. 2364.03.

ICR status: This is a proposal to renew an existing ICR. The OMB control numbers for EPA's regulations in Title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: With this information collection request (ICR) renewal, we are seeking permission to continue to accept reports from refiners, importers, and distributors regarding non-complying sulfur test results.

Specifically, the highway diesel program regulations require most motor vehicle (highway) diesel fuel sold at retail stations to contain 15 parts per million (ppm) sulfur or less (hereafter referred to as ultra low sulfur diesel fuel, or ULSD) beginning October, 2006. Where a violation of the 15 ppm sulfur standard is identified at a retail outlet, the retailer responsible for dispensing the noncompliant fuel is deemed liable, as well as the refiner(s), importer(s) and distributor(s) of such fuel. The highway diesel regulations further provide, however, that any person deemed liable can rebut this presumption by establishing an affirmative defense that includes, among other things, showing that it conducted a quality assurance sampling and testing program as prescribed by the regulations. This ICR covers burdens and costs associated with the provision that allows refiners and importers of ULSD an alternative means of meeting the affirmative defense requirements in the diesel sulfur regulations by participating in a nationwide diesel fuel sampling and testing program. The reporting burden covered by this proposed ICR related to reports that refiners, importers and distributors, have to submit in the event they have a non-complying sulfur test result. (See 40 CFR 80.613.) The authority citation for the direct final rule and the association information collection is for the following Clean Air Act sections: 42 United States Code §§ 7414, 7542, 7545, and 7601(a).

We are requesting that the Office of Management and Budget (OMB) renew this ICR and that it be effective three years after approval.

Burden Statement: The annual public reporting and recordkeeping burden for this collection of information is estimated to average 16 hours per respondent and 16 hours per response. Burden means the total time, effort, or financial resources expended by a person to generate, maintain, retain, or disclose or provide information to (or for) a Federal agency. This includes the time needed to review instructions; to develop, acquire, install, and utilize technology and systems for the purposes of collecting, validating, and verifying information; to process and maintain information; to disclose and provide information; to adjust the existing ways to comply with any previously applicable instructions and requirements which have subsequently changed; to train personnel to be able to respond to a collection of information; to search data sources; to complete and review the collection of information; and to transmit or otherwise disclose the information. We anticipate 20 respondents, submitting one response each.

The draft supporting statement, which has been placed in the public docket, contains detailed estimates for this proposed ICR.

Are there changes in the estimates from the last approval?

This is a proposed renewal of an existing information collection. The estimates have not changed from the last approval.

What is the next step in the process for this ICR?

EPA will consider the comments received and amend the ICR as appropriate. The final ICR package will then be submitted to OMB for review and approval pursuant to 5 CFR 1320.12. At that time, EPA will issue another Federal Register notice pursuant to 5 CFR 1320.5(a) (1) (iv) to announce the submission of the ICR to OMB and the opportunity to submit additional comments to OMB. If you have any questions about this ICR or the approval process, please contact the person listed under FOR FURTHER INFORMATION CONTACT.

Dated: October 6, 2010.
Margo Tsirigotis Oge,
Director, Office of Transportation and Air Quality.

[FR Doc. 2010-25900 Filed 10-13-10; 8:45 am]

BILLING CODE 6560-50-P